SMALL BUSINESS ADMINISTRATION

[Declaration of Disaster #3607]

Commonwealth of Pennsylvania; Amendment #1

In accordance with a notice received from the Department of Homeland Security—Federal Emergency Management Agency—effective August 25, 2004, the above numbered declaration is hereby amended to establish the incident period for this disaster as beginning on August 1, 2004, and continuing through August 25, 2004.

All other information remains the same, i.e., the deadline for filing applications for physical damage is October 5, 2004 and for economic injury the deadline is May 6, 2005.

(Catalog of Federal Domestic Assistance Program Nos. 59002 and 59008)
Dated: August 27, 2004.
Herbert L. Mitchell,
Associate Administrator for Disaster Assistance.

[FR Doc. 04-20182 Filed 9-3-04; 8:45 am]

BILLING CODE 8025-01-P